DEPARTMENT OF THE INTERIOR

National Park Service

Jackson Hole Airport Use Agreement Extension, Environmental Assessment, Grand Teton National Park, WY

AGENCY: National Park Service, Department of the Interior.

ACTION: Notice of Intent to prepare an Environmental Assessment for the Jackson Hole Airport Use Agreement Extension, Grand Teton National Park.

SUMMARY: Pursuant to the National Environmental Policy Act of 1969, 42 U.S.C. 4332(2)(C), the National Park Service is preparing an Environmental Assessment for the Jackson Hole Airport Use Agreement Extension for Grand Teton National Park, WY. This effort addresses a request from the Jackson Hole Airport Board to amend the use agreement between the Department of Interior and the Airport Board in order to ensure that the airport remains eligible for funding through the Federal Aviation Administration (FAA). Alternatives to be considered include Alternative 1: No Action—The airport would continue operations under the existing use agreement which currently has an expiration date of April 27, 2033; Alternative 2: Extend Agreement—Jackson Hole Airport Board proposal to extend the use agreement for an additional two 10-year terms, bringing the expiration date to April 27, 2053; and Alternative 3: Update and Extend Agreement—Extend the use agreement for an additional two 10-year terms with minor modifications as mutually agreed to by the NPS and the Airport Board.

The Jackson Hole Airport is located within Grand Teton National Park on 533 acres of land under the administrative jurisdiction of the National Park Service. The airport operates under the terms and conditions of a use agreement between the Department of the Interior and the Jackson Hole Airport Board. The agreement, executed in 1983, was for a primary term of 30 years, with options for two 10-year extensions, both of which have been exercised. The agreement also includes a provision that further extensions, amendments, or modifications could be negotiated by the parties on mutually satisfactory terms, and that the parties agree that upon expiration of the agreement, a mutually satisfactory extension of the agreement would be negotiated.

Since the FAA requires that the airport have more than 20 years remaining on its use agreement in order to remain eligible for Airport Improvement Program funds, an extension of the use agreement is needed to provide assurance that the airport will remain eligible for funding beyond the year 2013.

DATES: The National Park Service will accept scoping comments from the public through January 9, 2006.

ADDRESSES: Information will be available for public review and comment online at http://parkplanning.nps.gov, at Grand Teton National Park Headquarters Visitor Center in Moose, Wyoming, and at the Reference Desk of the Teton County Library in Jackson, Wyoming.

FOR FURTHER INFORMATION CONTACT: Margaret Wilson, Grand Teton National Park, P.O. Drawer 170, Moose, Wyoming 83012-0170, (370) 739-3390, margaret_wilson@nps.gov.

SUPPLEMENTARY INFORMATION: A scoping brochure has been prepared that describes the purpose and need for the project and issues identified to date. A copy of the brochure may be obtained at one of the addresses described above. If you wish to provide comments, you may do so by any one of several methods. You may mail comments to the Superintendent Office, Attention: Airport EA, P.O. Drawer 170, Moose, Wyoming 83012-0170. You may comment via the Internet at http://parkplanning.nps.gov. Finally, you may hand-deliver comments to the Grand Teton National Park Headquarters Visitor Center at Moose, Wyoming. Our practice is to make comments, including names and home addresses of respondents, available for public review during regular business hours. Individual respondents may request that we withhold their home address from the record, which we will honor to the extent allowable by law. There also may be circumstances in which we would withhold from the record a respondent's identity, as allowable by law. If you wish us to withhold your address, you must state this prominently at the beginning of your comment. We will make all submissions from organizations or businesses, and from individuals identifying themselves as representatives or officials of organizations or businesses, available for public inspection in their entirety.

Dated: November 22, 2005.
Michael D. Snyder,
Acting Regional Director, Intermountain Region, National Park Service.

[FR Doc. E5-7884 Filed 12-27-05; 8:45 am]

BILLING CODE 4312-CX-P